DEPARTMENT OF ENERGY

Federal Energy Regulatory Commission

[Project No. 13526-002]

Bowersock Mills and Power Company; Notice of Application Accepted for Filing, Soliciting Motions To Intervene and Protests, Ready for Environmental Analysis, and Soliciting Comments, Terms and Conditions, Recommendations, and Prescriptions

April 16, 2010.

Take notice that the following hydroelectric application has been filed with the Commission and is available for public inspection.

a. Type of Application: Original Major License.

b. Project No.: 13526-002.

c. Date Filed: February 8, 2010.

d. Applicant: Bowersock Mills Power Company (Bowersock).

e. Name of Project: Bowersock Mills and Power Company Expanded Kansas River Hydropower Project.

f. Location: The project would be located on the Kansas River in Douglas County, Kansas. The project would not affect Federal lands.

g. Filed Pursuant to: Federal Power Act, 16 U.S.C. 791(a)-825(r).

h. Applicant Contact: Sarah Hill-Nelson, The Bowersock Mills and Power Company, P.O. Box 66, Lawrence, Kansas 66044; (785) 766-0884.

i. FERC Contact: Monte TerHaar, (202) 502-6035, or via e-mail at monte.terhaar@ferc.gov.

j. Deadline for filing motions to intervene and protests, comments, terms and conditions, recommendations, and prescriptions: 60 days from the issuance of this notice. All reply comments must be filed with the Commission within 105 days from the date of this notice.

All documents may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. Project Description: The existing Bowersock dam and powerhouse currently operates under an exemption (Project No. 2644) as a small hydropower project of 5 megawatts (MW) or less. The proposed project would consist of the existing Bowersock dam and two powerhouses; the existing powerhouse on the South bank of the Kansas River, and a proposed powerhouse on the North bank of the Kansas River. The proposed project would have a total capacity of 6.6 MW and generate an estimated 33 gigawatt-hours annually. The electricity produced by the project would be sold to a local utility.

The proposed project would consist of the following:

(1) The existing 665-foot-long, 17-foot-high timber-crib Bowersock Dam; (2) raising the existing flashboards from 4 feet high to 5.5 feet high; (3) the existing 4.3-mile-long reservoir, having a normal water surface elevation of 813.5 feet mean sea level; (4) the existing South powerhouse, containing seven turbine/generator units having an installed capacity of 2.012 MW; (5) a proposed North powerhouse with four turbine/generator units, having an installed capacity of 4.6 MW; (6) a proposed 20-foot-wide roller gate; (7) a proposed intake flume with trashracks; (8) a proposed 150-foot-long canoe portage and fishing platform located along the North bank of the Kansas River; (10) a proposed 765-foot-long, 12-kilovolt (kV) transmission line connecting to an existing 535-foot-long 2.3-kV transmission line; and (8) appurtenant facilities.

The project would be operated in a run-of-river mode, where water levels in the reservoir would be maintained near the top of the flash boards. To avoid potential flooding of upstream lands, the project would incorporate a 20-foot-wide roller gate designed to release flows up to 2,600 cfs. In addition, the flashboards would be designed to collapse during periods of high inflows when the water surface elevation rises 6 inches above the top of the flashboards.

m. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

Register online at http://www.ferc.gov/docs-filing/esubscription.asp to be notified via e-mail of new filings and issuances related to this or other pending projects. For assistance, contact FERC Online Support.

n. Any qualified applicant desiring to file a competing application must submit to the Commission, on or before the specified intervention deadline date, a competing development application, or a notice of intent to file such an application. Submission of a timely notice of intent allows an interested person to file the competing development application no later than 120 days after the specified intervention deadline date. Applications for preliminary permits will not be accepted in response to this notice.

A notice of intent must specify the exact name, business address, and telephone number of the prospective applicant, and must include an unequivocal statement of intent to submit a development application. A notice of intent must be served on the applicant(s) named in this public notice.

Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

All filings must (1) Bear in all capital letters the title “PROTEST”, “MOTION TO INTERVENE”, “NOTICE OF INTENT TO FILE COMPETING APPLICATION,” “COMPETING APPLICATION,” “COMMENTS,” “REPLY COMMENTS,” “RECOMMENDATIONS,” “TERMS AND CONDITIONS,” or “PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. A license applicant must file no later than 60 days following the date of issuance of this notice: (1) A copy of the water quality certification; (2) a copy of the request for certification, including proof of the date on which the certifying agency received the request; or (3) evidence of waiver of water quality certification.

Kimberly D. Bose,
Secretary.

[FR Doc. 2010-9408 Filed 4-22-10; 8:45 am]

BILLING CODE 6717-01-P